DEPARTMENT OF AGRICULTURE

Forest Service

Information Collection; Request for Comment; National Visitor Use Monitoring; Correction

AGENCY: Forest Service, USDA.

ACTION: Notice; correction.

SUMMARY: The Forest Service published a document in the Federal Register on August 20, 2020, in accordance with the Paperwork Reduction Act of 1995, to seek comments from all interested individuals and organizations on the extension of a currently approved information collection, National Visitor Use Monitoring (0596-0110). The document contained the incorrect Expiration Date of Approval.

FOR FURTHER INFORMATION CONTACT: Dr. Donald B.K. English, Recreation, Heritage, and Volunteer Resources staff, at 202-205-9595 or by email to: don.english@usda.gov.

SUPPLEMENTARY INFORMATION:

Correction

In the Federal Register of August 20, 2020, in Volume 85, FR Doc 162, on page 51405, in the third column, correct under the SUPPLEMENTARY INFORMATION caption to read:

Expiration Date of Approval: December 31, 2017.

Jacqueline Emanuel,
Acting Associate Deputy Chief, National Forest System.

[FR Doc. 2020-19929 Filed 9-8-20; 8:45 am]

BILLING CODE 3411-15-P